DEPARTMENT OF COMMERCE

National Oceanic and Atmospheric Administration

50 CFR Part 648

[Docket No. 071004577-8124-02]

RIN 0648-XI94

Fisheries of the Northeastern United States; Northeast Multispecies Fishery; Adjustment to the Total Allowable Catch of Georges Bank Yellowtail Flounder from the United States/Canada Management Area for Fishing Year 2008

AGENCY: National Marine Fisheries Service (NMFS), National Oceanic and Atmospheric Administration (NOAA), Commerce.

ACTION: Inseason action; temporary rule adjusting specifications.

SUMMARY: NMFS announces that the Total Allowable Catch (TAC) in the U.S./Canada Management Area for Georges Bank (GB) yellowtail flounder was exceeded for fishing year (FY) 2007, requiring an adjustment of the GB yellowtail flounder TAC for FY 2008. This action complies with the Fishery Management Plan for the Northeast Multispecies Fishery (FMP) and is intended to continue the rebuilding program for yellowtail flounder in the FMP by taking into account previous overages of the yellowtail flounder quota.

DATES: Effective August 11, 2008, through April 30, 2009.

FOR FURTHER INFORMATION CONTACT: Douglas Potts, Fishery Policy Analyst, (978) 281-9341.

SUPPLEMENTARY INFORMATION: A temporary rule specifying the TACs for Eastern GB cod, Eastern GB haddock, and GB yellowtail flounder in the U.S./Canada Management Area was published in the Federal Register on March 28, 2008 (73 FR 16571). That action established the FY 2008 TACs of GB cod, haddock, and yellowtail flounder at 667 mt, 8,050 mt, and 1,950 mt, respectively, and specified that, should an analysis of the catch by U.S. vessels indicate that an overage occurred during FY 2007, the pertinent TAC would be adjusted downward in order to be consistent with the FMP and the U.S./Canada Management Understanding. The regulations state, at § 648.85(a)(2)(ii), that: “Any overages of the GB cod, haddock, or yellowtail flounder TACs that occur in a given fishing year will be subtracted from the respective TAC in the following fishing year.” The March 28, 2008, temporary rule also specified that the public would be notified of such an adjustment through publication in the Federal Register and through a letter to permit holders.

Based upon vessel reports, dealer reports, and other information available as of June 6, 2008, the total estimated catch of GB yellowtail flounder in the U.S./Canada Management Area during FY 2007 was 981.3 mt. This exceeds the FY 2007 GB yellowtail flounder TAC of 900 mt by 81.3 mt. Therefore, an overage of 81.3 mt of GB yellowtail flounder is being deducted from the FY 2008 U.S./Canada GB yellowtail flounder TAC through this action. This results in an adjusted TAC of 1,868.7 mt for FY 2008.

The Eastern GB cod and haddock TACs were not exceeded in FY 2007. Therefore, these TACs are not adjusted. The TACs for Eastern GB cod and Eastern GB haddock remain 667 mt and 8,050 mt, respectively.

Classification

This action is required by 50 CFR part 648 and is exempt from review under Executive Order 12866.

Pursuant to 5 U.S.C. 553(b)(B), the Assistant Administrator finds good cause to waive prior notice and opportunity for public comment, as notice and comment would be unnecessary. The regulations under § 648.85(a)(2)(ii), which were subject to prior public comment, require any overage of the TAC for GB yellowtail flounder be deducted from the TAC in the following fishing year. Accordingly, the action being taken by this temporary rule is non-discretionary. Since this is a non-discretionary action, based on numerous records solely in the possession of NMFS, public comment would not serve to inform the agency calculation of the overage and its deduction from the appropriate TAC.

The rate of harvest of GB yellowtail flounder by groundfish vessels and scallop vessels fishing in the Scallop Access Areas in the U.S./Canada Management Area as reported from Vessel Monitoring Systems is updated weekly on the internet at http://www.nero.noaa.gov. Accordingly, the public is able to obtain information that would provide at least some advanced notice of a potential action as a result of a GB yellowtail flounder TAC being exceeded during FY 2007. Further, the potential that one or more of the FY 2007 TACs for the U.S./Canada stocks could be exceeded was considered and open to public comment during the proposed rule stage of the temporary rule setting the U.S./Canada TACs for FY 2008. Therefore, any negative effect the waiving of public comment may have on the public is mitigated by these factors.

Authority: 16 U.S.C. 1801 et seq.

Dated: July 3, 2008.
Emily H. Menashes,
Acting Director, Office of Sustainable Fisheries, National Marine Fisheries.

[FR Doc. E8-15717 Filed 7-9-08; 8:45 am]

BILLING CODE 3510-22-S